SECURITIES AND EXCHANGE COMMISSION

Proposed Collection; Comment Request

Upon Written Request, Copies Available From: Securities and Exchange Commission, Office of Filings and Information Services, Washington, DC 20549.

Extension: Rule 30d-2, SEC File No. 270-437, OMB Control No. 3235-0494.

Notice is hereby given that, pursuant to the Paperwork Reduction Act of 1995 (44 U.S.C. 3501-3520), the Securities and Exchange Commission (the “Commission”) is soliciting comments on the collection of information summarized below. The Commission plans to submit this existing collection of information to the Office of Management and Budget for extension and approval.

Section 30(e) of the Investment Company Act of 1940 [15 U.S.C. 80a-29(e)] (the “Investment Company Act” or “Act”) and rule 30d-2 ¹ thereunder [17 CFR 270.30d-2] require unit investment trusts (“UITs”) that invest substantially all of their assets in securities of a management investment company (“fund”) to send a report to shareholders at least semi-annually containing financial information on the underlying fund.² Rule 30d-2 requires that the reports contain the financial statements that are required by rule 30d-1 [17 CFR 270.30d-1] to be included in the report of the underlying fund for the same fiscal period. Rule 30d-1 requires that the reports contain the financial statements required by a fund's registration form. Rule 30d-2, however, permits, under certain conditions, delivery of a single shareholder report to investors who share an address (“householding”) to satisfy the delivery requirements of the rule. The purpose of the householding provisions of the rule is to reduce the amount of duplicative reports delivered to investors sharing the same address.

¹ The Commission has proposed that rule 30d-2 be redesignated as rule 30e-2. See Role of Independent Directors of Investment Companies, Securities Act Rel. No. 7754; Exchange Act Rel. No. 42007; Investment Company Act Rel. No. 24082 (Oct. 14, 1999) [64 FR 59826 (Nov. 3, 1999)]. The proposal has not been adopted as of the date of this notice.

² Management investment companies are defined in section 4(3) of the Investment Company Act as any investment company other than a face-amount certificate company or a unit investment trust, as those terms, are defined in sections 4(1) and 4(2) of the Investment Company Act. See 15 U.S.C. 80a-4.

Rule 30d-2 permits householding of annual and semi-annual reports by UITs to satisfy the delivery requirements of rule 30d-2 if, in addition to the other conditions set forth in the rule, the UIT has obtained from each investor written or implied consent to the householding of shareholder reports. The rule requires UITs that wish to household shareholder reports with implied consent to send a notice to each investor stating that the investors in the household will receive one report in the future unless the investors provide contrary instructions. In addition, at least once a year, UITs relying on the rule for householding must explain to investors who have provided written or implied consent how they can revoke their consent. Preparing and sending the initial notice and the annual explanation of the right to revoke are collections of information.

The rule requires UITs that invest substantially all of their assets in securities of a fund to transmit to shareholders at least semi-annually reports containing financial statements and certain other information in order to apprise current shareholders of the operational and financial condition of the UIT. Absent the requirement to disclose all material information in reports, investors would be unable to obtain accurate information upon which to base investment decisions and consumer confidence in the securities industry might be adversely affected. Requiring the submission of these reports to the Commission permits us to verify compliance with securities law requirements.

¹ The Commission has proposed that rule 30d-2 be redesignated as rule 30e-2. See Role of Independent Directors of Investment Companies, Securities Act Rel. No. 7754; Exchange Act Rel. No. 42007; Investment Company Act Rel. No. 24082 (Oct. 14, 1999) [64 FR 59826 (Nov. 3, 1999)]. The proposal has not been adopted as of the date of this notice.

² Management investment companies are defined in section 4(3) of the Investment Company Act as any investment company other than a face-amount certificate company or a unit investment trust, as those terms, are defined in sections 4(1) and 4(2) of the Investment Company Act. See 15 U.S.C. 80a-4.

Rule 30d-2 allows UITs to household shareholder reports if certain conditions are met. Among the conditions with which a UIT must comply are providing notice to each investor that only one report will be sent to the household and providing to each investor that consents to householding an annual explanation of the right to revoke consent to the delivery of a single shareholder report to multiple investors sharing an address. The purpose of the notice and annual explanation requirements associated with the householding provisions of the rule is to ensure that investors who wish to receive individual copies of shareholder reports are able to do so.

The Commission estimates that as of December 1999, approximately 655 UITs were subject to the provisions of rule 30d-2. The Commission further estimates that the annual burden associated with rule 30d-2 is 121 hours for each UIT, including an estimated 20 hours associated with the notice requirement for householding and an estimated 1 hour associated with the explanation of the right to revoke consent to householding, for a total of 79,255 burden hours.

The estimate of average burden hours is made solely for the purposes of the Paperwork Reduction Act, and is not derived from a comprehensive or even a representative survey or study of the costs of Commission rules and forms.

In addition to the burden hours, the Commission estimates that the cost of contracting for outside services associated with complying with rule 30d-2 is $12,000 per respondent (80 hours times $150 per hour for independent auditor services), for a total of $7,860,000 ($12,000 per respondent times 655 respondents).

Written comments are invited on: (a) Whether the collections of information are necessary for the proper performance of the functions of the Commission, including whether the information has practical utility, (b) the accuracy of the Commission's estimate of the burden of the collections of information; (c) ways to enhance the quality, utility, and clarity of the information collected; and (d) ways to minimize the burden of the collections of information on respondents, including through the use of automated collection techniques or other forms of information technology. The Commission will consider comments and suggestions submitted in writing within 60 days after this publication.

Please direct your written comments to Michael E. Bartell, Associate Executive Director, Office of Information Technology, Securities and Exchange Commission, 450 5th Street, NW., Washington, DC 20549.

Dated: October 4, 2000.
Margaret H. McFarland,
Deputy Secretary.

[FR Doc. 00-26376 Filed 10-12-00; 8:45 am]

BILLING CODE 8010-01-M